ENVIRONMENTAL PROTECTION AGENCY

[FRL-7459-6]

Proposed Administrative Peripheral Party, Inability To Pay, Cash-out Agreement Under the Comprehensive Environmental Response, Compensation, and Liability Act of 1980 Regarding the Meadowlands Plating & Finishing Site, East Rutherford, NJ

AGENCY: Environmental Protection Agency.

ACTION: Notice of proposed administrative cash-out agreement and opportunity for public comment.

SUMMARY: The Environmental Protection Agency (“EPA”) is proposing to enter into an administrative settlement to resolve claims under the Comprehensive Environmental Response, Compensation, and Liability Act of 1980, as amended (“CERCLA”), 42 U.S.C. ”9601 et seq. In accordance with EPA guidance, notice is hereby given of a proposed administrative settlement pursuant to section 122(h)(1) of CERCLA concerning the Meadowlands Plating & Finishing Site, located in East Rutherford, New Jersey. Notice is being published to inform the public of the proposed settlement and of the opportunity to comment. This settlement is intended to resolve a responsible party's civil liability for response costs incurred by EPA at the Meadowlands Plating & Finishing Site. CERCLA provides EPA the authority to settle certain claims for response costs incurred by the United States with the approval of the Attorney General of the United States.

The proposed settlement provides that John Canavari, will pay $80,000 over 36 months, in reimbursement of response costs incurred by EPA in remediating the Meadowlands Plating & Finishing site in return for a covenant not sue under section 107 of CERCLA from the United States.

DATES: Comments must be provided by April 7, 2003.

ADDRESSES: Comments should be addressed to the U.S. Environmental Protection Agency, Office of Regional Counsel, 290 Broadway—17th Floor, New York, New York 10007-1866 and should refer to: In the Matter of Meadowlands Plating & Finishing Site, John Canavari, Settling Party, U.S. EPA Region II Docket No. CERCLA-02-2003-2005.

FOR FURTHER INFORMATION CONTACT: U.S. Environmental Protection Agency, Office of Regional Counsel, 290 Broadway—17th Floor, New York, New York 10007-1866, Attention: Patricia C. Hick, Esq. (212) 637-3137.

SUPPLEMENTARY INFORMATION: A copy of the proposed administrative settlement agreement, as well as background information relating to the settlement, may be obtained in person or by mail from EPA's Region II Office of Regional Counsel, 290 Broadway—17th Floor, New York, New York 10007-1866.

Dated: January 3, 2003.
William McCabe,
Acting Director, Emergency & Remedial Response Division.

[FR Doc. 03-5475 Filed 3-6-03; 8:45 am]

BILLING CODE 6560-50-P